DEPARTMENT OF COMMERCE

National Oceanic and Atmospheric Administration

RIN 0648-XC190

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory entities will hold public meetings.

DATES: The Pacific Council and its advisory entities will meet September 13-18, 2012. The Pacific Council meeting will begin on Friday, September 14, 2012 at 10 a.m., reconvening each day through Tuesday, September 18, 2012. All meetings are open to the public, except a closed session will be held at the end of business on Friday, September 14 to address litigation and personnel matters. The Pacific Council will meet as late as necessary each day to complete its scheduled business.

ADDRESSES: Meetings of the Pacific Council and its advisory entities will be held at the Riverside Hotel, 2900 Chinden Boulevard, Boise, ID 83714; telephone: (208) 343-1871.

Council address: Pacific Fishery Management Council, 7700 NE Ambassador Place, Suite 101, Portland, OR 97220.

FOR FURTHER INFORMATION CONTACT: Dr. Donald O. McIsaac, Executive Director; telephone: (503) 820-2280 or (866) 806-7204 toll free; or access the Pacific Council Web site, http://www.pcouncil.org for the current meeting location, proposed agenda, and meeting briefing materials.

SUPPLEMENTARY INFORMATION: The following items are on the Pacific Council agenda, but not necessarily in this order:

A. Call to Order

1. Opening Remarks

2. Roll Call

3. Executive Director's Report

4. Agenda

B. Enforcement Issues

Current Enforcement Issues

C. Highly Migratory Species Management

National Marine Fisheries Service Report

D. Habitat

Current Habitat Issues

E. Salmon Management

1. California Hatchery Review Report

2. 2012 Salmon Methodology Review

3. Salmon Fishery Management Plan (FMP) Amendment 17—Annual Regulatory Cycle and Minor Updates

4. FMP Amendment 18—Update of Essential Fish Habitat for Salmon

5. Lower Columbia Endangered Species Act Salmon and Steelhead Recovery Plan

F. Pacific Halibut Management

1. Pacific Halibut Management South of Humbug Mountain

2. 2013 Pacific Halibut Regulations

3. Pacific Halibut Bycatch Estimate for Use in 2013 Groundfish Fisheries

G. Administrative Matters

1. Legislative Matters

2. Research Planning

3. Approval of Council Meeting Minutes

4. Fiscal Matters

5. Membership Appointments and Council Operating Procedures

6. Future Council Meeting Agenda and Workload Planning

H. Groundfish Management

1. National Marine Fisheries Service Report

2. Trawl Rationalization Trailing Actions for Cost Recovery and Process Issues

3. Stocks Assessment Planning

4. Update on Biological Opinion for the Groundfish Fishery, Including Consideration of Seabird Protection Regulations

5. Consideration of Inseason Adjustments

6. Phase I Report for Essential Fish Habitat Review

7. Reconsideration of Initial Catch Share Allocations in the Mothership and Shoreside Pacific Whiting Fisheries

I. Open Comment Period

Comments on Non-Agenda Items

Schedule of Ancillary Meetings
Day 1—Thursday, September 13, 2012:
Habitat Committee | 8 a.m.
Salmon Advisory Subpanel | 8 a.m.
Salmon Technical Team | 8 a.m.
Scientific and Statistical Committee | 8 a.m.
Legislative Committee | 2 p.m.
Budget Committee | 3:30 p.m.
Enforcement Consultants | 6 p.m.
Day 2—Friday, September 14, 2012:
California State Delegation | 7 a.m.
Oregon State Delegation | 7 a.m.
Washington State Delegation | 7 a.m.
Groundfish Management Team | 8 a.m.
Salmon Advisory Subpanel | 8 a.m.
Salmon Technical Team | 8 a.m.
Scientific and Statistical Committee | 8 a.m.
Groundfish Advisory Subpanel | 3 a.m.
Enforcement Consultants | As Needed.
Chair's Reception | 6 p.m.
Day 3—Saturday, September 15, 2012:
California State Delegation | 7 a.m.
Oregon State Delegation | 7 a.m.
Washington State Delegation | 7 a.m.
Essential Fish Habitat Review Committee | 8 a.m.
Groundfish Advisory Subpanel | 8 a.m.
Groundfish Management Team | 8 a.m.
Scientific and Statistical Committee Economics and Groundfish Subcommittees | 8 a.m.
Enforcement Consultants | As Needed.
Day 4—Sunday, September 16, 2012:
California State Delegation | 7 a.m.
Oregon State Delegation | 7 a.m.
Washington State Delegation | 7 a.m.
Essential Fish Habitat Review Committee | 8 a.m.
Groundfish Advisory Subpanel | 8 a.m.
Groundfish Management Team | 8 a.m.
Enforcement Consultants | As Needed.
Day 5—Monday, September 17, 2012:
California State Delegation | 7 a.m.
Oregon State Delegation | 7 a.m.
Washington State Delegation | 7 a.m.
Groundfish Advisory Subpanel | 8 a.m.
Groundfish Management Team | 8 a.m.
Enforcement Consultants | As Needed.
Day 6—Tuesday, September 18, 2012:
California State Delegation | 7 a.m.
Oregon State Delegation | 7 a.m.
Washington State Delegation | 7 a.m.
Enforcement Consultants | As Needed.

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: August 22, 2012.
William D. Chappell,
Acting Director, Office of Sustainable Fisheries, National Marine Fisheries Service.

[FR Doc. 2012-21073 Filed 8-24-12; 8:45 am]

BILLING CODE 3510-22-P